DEPARTMENT OF DEFENSE

Office of the Secretary

Renewal of Department of Defense Federal Advisory Committees

AGENCY: DoD.

ACTION: Renewal of Federal Advisory Committee.

SUMMARY: The Department of Defense is publishing this notice to announce that it is renewing the charter for the Department of Defense Wage Committee (“the Committee”).

FOR FURTHER INFORMATION CONTACT: Jim Freeman, Advisory Committee Management Officer for the Department of Defense, 703-692-5952.

SUPPLEMENTARY INFORMATION: This committee's charter is being renewed pursuant to 5 CFR part 532, Federal Wage System (Pub. L. 92-392), and in accordance with the Federal Advisory Committee Act (FACA) of 1972 (5 U.S.C., Appendix, as amended) and 41 CFR 102-3.50(c), established the Committee.

The Committee is a statutory Federal advisory committee that provides independent advice and recommendations to the Secretary of Defense or Deputy Secretary of Defense, through the Under Secretary of Defense for Personnel and Readiness (USD(P&R)), on matters relating to the conduct of wage surveys and the establishment of wage schedules for all appropriated fund and non-appropriated fund wage areas of blue-collar employees within DoD.

The Committee reports to the Secretary of Defense or the Deputy Secretary of Defense, through the USD(P&R).

The USD(P&R), may act upon the Committee's advice and recommendations.

The Committee, in accordance with 5 CFR 532.227, will be composed of seven members—a chair and six additional members. The Secretary of Defense or the Deputy Secretary of Defense selects the Committee's chair.

Committee members are appointed by the Secretary of Defense or the Deputy Secretary of Defense and their appointments will be renewed on an annual basis. Committee members who are not full-time or permanent part-time Federal employees are appointed as experts or consultants under the authority of 5 U.S.C. 3109 to serve as special government employee (SGE) members. Committee members who are full-time or permanent part-time Federal employees are appointed pursuant to 41 CFR 102-3.130(a) to serve as regular government employee (RGE) members. Committee members, as determined by the Secretary of Defense or Deputy Secretary of Defense, serve a term of service of one-to-four years. No member may serve more than two consecutive terms of service without written approval by the Secretary of Defense or Deputy Secretary of Defense. This same term of service limitation also applies to any authorized DoD subcommittees.

Committee members serve without compensation except for reimbursement of travel and per diem as it pertains to official Committee business.

All members of the Committee are appointed to provide advice on the basis of their best judgment with representing any particular point of view and in a manner that is free from conflict of interest.

DoD, when necessary and consistent with the Committee's mission and DoD policies and procedures, may establish subcommittees, task forces, or working groups to support the Committee. Establishment of subcommittees is based upon a written determination, to include terms of reference, by the Secretary of Defense, the Deputy Secretary of Defense, or USD(P&R), as the Committee's sponsor.

Such subcommittees will not work independently of the Committee and must report all of their recommendations and advice solely to the Committee for full and open deliberation, discussion, and voting. Subcommittees, task forces, or working groups have no authority to make decisions and recommendations, verbally or in writing, on behalf of the Committee. No subcommittee or any of its members can update or report, verbally or in writing, on behalf of the Committee, directly to the DoD or any Federal officer or employee.

The Secretary of Defense or the Deputy Secretary of Defense will appoint subcommittee members to a term of service of one-to-four years, with annual renewals, even if the member in question is already a member of the Committee. Subcommittee members will not serve more than two consecutive terms of service unless authorized by the Secretary of Defense or the Deputy Secretary of Defense.

Subcommittee members, if not full-time or permanent part-time Federal employees, will be appointed as experts or consultants pursuant to 5 U.S.C. 3109 to serve as SGE members. Subcommittee members, who are full-time or permanent part-time Federal employees, will be appointed pursuant to 41 CFR 102-3.130(a) to serve as RGE members. With the exception of reimbursement of official travel and per diem related to the Committee or its subcommittees, subcommittee members shall serve without compensation.

All subcommittees operate under the provisions of FACA, the Sunshine Act, governing Federal statutes and regulations, and established DoD policies and procedures.

The Committee's Designated Federal Officer (DFO) must be a full-time or permanent part-time DoD employee appointed in accordance with governing DoD policies and procedures.

The Committee's DFO is required to attend at all meetings of the Committee and any subcommittees for the entire duration of each and every meeting. However, in the absence of the Committee's DFO, a properly approved Alternate DFO, duly appointed to the Committee according to established DoD policies and procedures, must attend the entire duration of all meetings of the Committee and its subcommittees.

The DFO or the Alternate DFO calls all meetings of the Committee and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Department of Defense Wage Committee membership about the Committee's mission and functions. Written statements may be submitted at any time or in response to the stated agenda of planned meeting of the Department of Defense Wage Committee.

All written statements shall be submitted to the DFO for the Department of Defense Wage Committee, and this individual will ensure that the written statements are provided to the membership for their consideration. Contact information for the Department of Defense Wage Committee DFO can be obtained from the GSA's FACA Database— http://www.facadatabase.gov/.

The DFO, pursuant to 41 CFR 102-3.150, will announce planned meetings of the Department of Defense Wage Committee. The DFO, at that time, may provide additional guidance on the submission of written statements that are in response to the stated agenda for the planned meeting in question.

Dated: November 4, 2014.
Aaron Siegel,
Alternate OSD Federal Register Liaison Officer, Department of Defense.

[FR Doc. 2014-26522 Filed 11-7-14; 8:45 am]

BILLING CODE 5001-06-P